SMALL BUSINESS ADMINISTRATION

[Disaster Declaration #20729; IDAHO Disaster Number ID-20011 Declaration of Economic Injury]

Administrative Declaration of an Economic Injury Disaster for the State of Idaho

AGENCY: U.S. Small Business Administration.

ACTION: Notice.

SUMMARY: This is a notice of an Economic Injury Disaster Loan (EIDL) declaration for the State of Idaho dated October 7, 2024.

DATES: Issued on October 7, 2024.

Economic Injury (EIDL) Loan Application Deadline Date: July 7, 2025.

ADDRESSES: Visit the MySBA Loan Portal at https://lending.sba.gov to apply for a disaster assistance loan.

FOR FURTHER INFORMATION CONTACT: Vanessa Morgan, Office of Disaster Recovery & Resilience, U.S. Small Business Administration, 409 3rd Street SW, Suite 6050, Washington, DC 20416, (202) 205-6734.

SUPPLEMENTARY INFORMATION: Notice is hereby given that as a result of the Administrator's EIDL declaration, applications for disaster loans may be submitted online using the MySBA Loan Portal https://lending.sba.gov or other locally announced locations. Please contact the SBA disaster assistance customer service center by email at disastercustomerservice@sba.gov or by phone at 1-800-659-2955 for further assistance.

Incident: Wildfires, including the Bench Lake and Wapiti Fires.

Incident Period: July 11, 2024 and continuing.

The following areas have been determined to be adversely affected by the disaster:

Primary Counties: Custer.

Contiguous Counties:

Idaho: Blaine, Boise, Butte, Elmore, Lemhi, Valley

The Interest Rates are:

| Percent
Business and Small Agricultural Cooperatives without Credit Available Elsewhere | 4.000
Non-Profit Organizations without Credit Available Elsewhere | 3.250

The number assigned to this disaster for economic injury is 207290.

The State which received an EIDL Declaration is IDAHO.

(Catalog of Federal Domestic Assistance Number 59008)

Isabella Guzman,
Administrator.

[FR Doc. 2024-23682 Filed 10-11-24; 8:45 am]

BILLING CODE 8026-09-P